OFFICE OF MANAGEMENT AND BUDGET

Coordination and Strategic Planning of the Federal Effort Against Intellectual Property Infringement: Request of the Intellectual Property Enforcement Coordinator for Public Comments Regarding the Joint Strategic Plan

AGENCY: Office of Management and Budget, Executive Office of the President.

ACTION: Request for written submissions from the public.

SUMMARY: The Federal Government is currently undertaking a landmark effort to develop an intellectual property enforcement strategy building on the immense knowledge and expertise of the agencies charged with enforcing intellectual property rights. By committing to common goals, the Government will more effectively and efficiently combat intellectual property infringement. In this request for comments, the Government, through the office of the Intellectual Property Enforcement Coordinator (“IPEC”), invites public input and participation in shaping an effective intellectual property enforcement strategy.

This new effort is mandated by the Prioritizing Resources and Organization for Intellectual Property Act of 2008, Public Law 110-403 (Oct. 13, 2008) (“the PRO IP Act” or “the Act”) which created, within the Executive Office of the President, the position of the IPEC. The Act requires the IPEC to chair an interagency intellectual property enforcement advisory committee in order to develop an Administration strategy for enforcement against intellectual property infringement: The Joint Strategic Plan. The IPEC is currently working with the interagency advisory committee to develop this intellectual property enforcement strategy.

This request for comments and for recommendations for an improved enforcement strategy is divided into two parts. In the first, the IPEC seeks written submissions from the public regarding the costs to the U.S. economy resulting from intellectual property violations, and the threats to public health and safety created by infringement. In the second part, the IPEC requests detailed recommendations from the public regarding the objectives and content of the Joint Strategic Plan and other specific recommendations for improving the Government's intellectual property enforcement efforts. Responses to this request for comments may be directed to either of these two parts, or both, and may include a response to one or more requests for information found in either part.

DATES: Submissions must be received on or before Wednesday, March 24, 2010, at 5 p.m.

ADDRESSES: All submissions should be sent electronically via intellectualproperty@omb.eop.gov.

Publication and Confidential Information

Submissions filed in response to this request will be made available to the public by posting them on the Internet. For this reason, please do not include in your comments information of a confidential nature, such as sensitive personal information or proprietary information. If you have confidential business information that would support your recommendation or that you believe would help the Government formulate an effective enforcement strategy, please let us know, and we may request that additional information.

FOR FURTHER INFORMATION CONTACT: Thomas L. Stoll, Office of the Intellectual Property Enforcement Coordinator, at (202) 395-1808.

SUPPLEMENTARY INFORMATION: Through the PRO IP Act, Congress created the IPEC, to serve within the Executive Office of the President, and an interagency advisory committee specifically tasked with formulating and implementing a Joint Strategic Plan to improve the effectiveness of the U.S. Government's efforts to protect the rights of intellectual property owners and to reduce the costs of and threats posed by intellectual property infringement, in the U.S. and in other countries. The IPEC seeks public input, in the form of written comments, on the formulation of a Joint Strategic Plan and on the U.S. Government's intellectual property enforcement efforts.

Part I

The Joint Strategic Plan must contain an analysis of the threat posed by violations of intellectual property rights, including the costs to the U.S. economy resulting from such violations, and the threats to public health and safety created by infringement. Thus, the IPEC seeks written submissions from the public identifying the costs to the U.S. economy resulting from infringement of intellectual property rights, both direct and indirect, including any impact on the creation or maintenance of jobs.

In addition, the IPEC seeks written submissions identifying threats to public health and safety posed by intellectual property infringement, in the U.S. and in other countries.

Submissions directed to the economic costs of violations of intellectual property rights must clearly identify the methodology used in calculating the estimated costs and any critical assumptions relied upon, identify the source of the data on which the cost estimates are based, and provide a copy of or a citation to each such source.

Submissions directed to threats to public health or safety must include a detailed description of the threat, identify the source of the information substantiating the existence of that threat and provide a copy of or a citation to each such source.

The issues and challenges that pertain to adequate and appropriate enforcement of intellectual property are changing rapidly. Therefore, if desired, submissions may also identify and discuss emerging or future threats to the U.S. economy or to health and safety over the next five to ten years.

Part II

The IPEC requests written submissions from the public that provide specific recommendations for accomplishing one or more of the objectives of the Joint Strategic Plan, or other specific recommendations for significantly improving the U.S. Government's enforcement efforts. Recommendations may include, but need not be limited to: Proposed legislative changes, regulations, executive orders, other executive action, guidelines, or changes in policies, practices or methods.

Recommendations should include a detailed description of a preferred method for accomplishing the recommendation. If a submission includes multiple recommendations, the IPEC requests that the submission rank the recommendations in order of priority, where possible.

The objectives of the Joint Strategic Plan include:

• Reducing the supply of infringing goods, domestically and internationally;

• Identifying weaknesses, duplication of efforts, waste, and other unjustified impediments to effective enforcement actions;

• Promoting information sharing between participating agencies to the extent permissible by law;

• Disrupting and eliminating infringement networks in the U.S. and in other countries;

• Strengthening the capacity of other countries to protect and enforce intellectual property rights;

• Reducing the number of countries that fail to enforce intellectual property rights;

• Assisting other countries to more effectively enforce intellectual property rights;

• Protecting intellectual property rights in other countries by:

• Working with other countries to reduce intellectual property crimes in other countries;

• Improving information sharing between law enforcement agencies in the U.S. and in other countries; and

• Establishing procedures for consulting with interested groups within other countries.

• Establishing programs to enhance the enforcement efforts of foreign governments by providing training and technical assistance designed to:

• Enhance the efficiencies and minimize the duplication of U.S. Government training and assistance efforts;

• Prioritize deployment of U.S. Government resources to those countries in which programs can be carried out most effectively and will have the greatest impact on reducing the number of infringing products in the relevant U.S. market, protecting the intellectual property rights of U.S. rights holders, and protecting the interests of U.S. persons otherwise harmed by infringements in other countries.

Supplemental Comment Topics

In addition to the foregoing, the IPEC requests information and/or recommendations on the following list of additional supplemental topics. The submission of responses to one or more of the following topics below is entirely optional.

1. Suggest methods to improve the adequacy, effectiveness and/or coordination of the various Federal departments, agencies and programs that are charged with enforcement of intellectual property.

2. Identify specific existing enforcement actions, methods, procedures or policies employed by the U.S. Government or governments of other countries that have been particularly effective at curtailing or preventing infringement (including, if possible, specific examples illustrating the effectiveness of those methods).

3. Identify specific existing processes involving cooperation between stakeholders and the U.S. Government (or between stakeholders and other governments) that have been particularly effective at curtailing or preventing infringement.

4. Provide examples of existing successful agreements, in the U.S. or abroad, that have had a significant impact on intellectual property enforcement, including voluntary agreements among stakeholders or agreements between stakeholders and the relevant government.

5. Suggest methods for strengthening information sharing between stakeholders and U.S. Government agencies to improve intellectual property rights enforcement efforts, including methods the U.S. Government can use to obtain more accurate information concerning the identities, corporate structures and locations of those suspected of intellectual property infringement.

6. Suggest new methods for rights holders and importers to provide information to U.S. Customs and Border Protection (CBP) on distribution and supply chains. Such information could enable CBP to increase the effectiveness of its process for selecting (“targeting”) imports for inspection by creating a segment of trusted imports, which would allow CBP to better focus its targeting on high risk imports and imports for which advance information is lacking.

7. Describe existing technology that could or should be used by the U.S. Government or a particular agency or department to more easily identify infringing goods or other products.

8. Suggest approaches for increasing standardization among authentication tools and technologies applied by rights holders to products to enable identification of these goods as genuine through a physical examination of the goods or product.

9. Suggest how state and local law enforcement authorities could more effectively assist in intellectual property enforcement efforts, including whether coordination could be improved, if necessary, and whether they should be vested with additional authority to more actively participate in prosecutions involving intellectual property enforcement.

10. Describe the adequacy and effectiveness of the reporting by the various agencies responsible for enforcing intellectual property infringements, such as the reporting of investigations, seizures of infringing goods or products, prosecutions, the results of prosecutions, including whether any further voluntary reporting of activities should be made, in keeping with other federal law.

11. Suggest methods to improve the adequacy, effectiveness and/or coordination of U.S. Government personnel stationed in other countries who are charged with enforcement of intellectual property, including but not limited to:

a. Department of Justice IP Law Enforcement Coordinator (IPLEC) program;

b. U.S. Patent and Trademark Office Intellectual Property attachés program;

c. Food and Drug Administration foreign country offices;

d. Foreign Agricultural Service;

e. Department of Commerce International Trade Administration Foreign Commercial Service officers;

f. Department of Commerce International Trade Administration compliance attachés;

g. Department of Homeland Security/Immigration and Customs Enforcement and Department of Homeland Security/Customs and Border Patrol attachés and other representatives;

h. Department of State's Foreign Service officers and post leadership; and

i. Office of the U.S. Trade Representative IP attaché.

12. Suggest ways to improve the adequacy, effectiveness and/or coordination of the enforcement training and technical assistance provided by the U.S. Government, including (but not limited to):

a. Identification of specific countries or geographical regions that could benefit from U.S. Government training and technical assistance and the program areas where training and assistance should focus;

b. Suggestions for how to leverage resources or partnerships to broaden the impact of U.S. Government training and assistance; and

c. Suggestions to enhance industry participation in relevant training programs.

13. Suggest specific measures to further secure the domestic and international supply chains to minimize the threat posed by infringing goods or products.

14. Suggest specific methods to limit or prevent use of the Internet to sell and/or otherwise distribute or disseminate infringing products (physical goods or digital content).

15. Provide information on the various types of entities that are involved, directly or indirectly, in the distribution or dissemination of infringing products and a brief description of their various roles and responsibilities.

16. Discuss the effectiveness of recent efforts by educational institutions to reduce or eliminate illegal downloading over their networks. Submissions should include recent specific examples.

17. Suggest specific strategies for reducing the threats to public health and safety caused by the use or consumption of infringing goods (for example, counterfeit drugs, medical devices, biologics, and ingested consumer products).

18. Discuss the possible application of World Trade Organization provisions, including, but not limited to, those on anti-dumping, subsidies, standards and safeguard measures in cases where failure to enforce intellectual property laws in other jurisdictions produces unfair cost or other advantages for the production or distribution of goods and services or otherwise disadvantages U.S. right holders.

19. Suggest specific strategies to significantly reduce the demand for infringing goods or products both in the U.S. and in other countries.

20. Provide specific suggestions on the need for public education and awareness programs for consumers, including a description of how these programs should be designed, estimates of their cost, whether they should focus on specific products that pose a threat to public health, such as counterfeit pharmaceuticals, or whether should they be general infringement awareness programs.

The above list of topics for discussions and recommendations is not intended to limit the scope of the submissions. Rather, the public is encouraged to submit any detailed concrete recommendation for significantly improving intellectual property rights enforcement.

Dated: February 18, 2010.
Victoria A. Espinel,
United States Intellectual Property Enforcement Coordinator.

[FR Doc. 2010-3539 Filed 2-22-10; 8:45 am]

BILLING CODE 3110-01-P